DEPARTMENT OF COMMERCE

National Oceanic and Atmospheric Administration

50 CFR Part 640

[Docket No. 110908576-2240-02]

RIN 0648-BB44

Spiny Lobster Fishery of the Gulf of Mexico and South Atlantic; Amendment 11; Correction

AGENCY: National Marine Fisheries Service (NMFS), National Oceanic and Atmospheric Administration (NOAA), Commerce.

ACTION: Final rule; correction.

SUMMARY: This document contains a correction to the final rule to implement Amendment 11 to the Fishery Management Plan for the Spiny Lobster Fishery in the Gulf of Mexico and South Atlantic Regions that published on Friday, July 27, 2012.

DATES: This correction is effective August 27, 2012.

FOR FURTHER INFORMATION CONTACT: Scott Sandorf, 727-824-5305; email: scott.sandorf@noaa.gov.

SUPPLEMENTARY INFORMATION:

Correction

On July 27, 2012 (77 FR 44168, July 27, 2012), incorrect latitudinal coordinates for Lobster Trap Gear Closed Areas 16 and 17, and longitudinal coordinates for Lobster Trap Gear Closed Area 18 were published. In rule document 2012-18303 appearing on pages 44168-44172 in the issue of Friday July 27, 2012, make the following corrections:

PART 640—[CORRECTED]

1. On page 44170, in the first column, under § 640.22, in paragraphs (b)(4)(xvi) and (b)(4)(xvii), Point D is corrected; and in paragraph (b)(4)(xviii), Points B and C are corrected to read as follows:

§ 640.22 Gear and diving restriction.

* * * * *

(b) * * *

(4) * * *

(xvi) * * *

Point | North lat. | West long.
* * * * *
D | 24°53′24.562″ | 80°33′14.886″
* * * * *

(xvii) * * *

Point | North lat. | West long.
* * * * *
D | 24°53′25.348″ | 80°32′43.302″
* * * * *

(xviii) * * *

Point | North lat. | West long.
* * * * *
B | 24°53′59.368″ | 80°32′41.542″
C | 24°54′06.667″ | 80°32′48.994″
* * * * *

* * * * *

Dated: August 17, 2012.
Alan D. Risenhoover,
Director, Office of Sustainable Fisheries, performing the functions and duties of the Deputy Assistant Administrator for Regulatory Programs, National Marine Fisheries Service.

[FR Doc. 2012-20674 Filed 8-21-12; 8:45 am]

BILLING CODE 3510-22-P